DEPARTMENT OF HEALTH AND HUMAN SERVICES

Centers for Medicare & Medicaid Services

42 CFR Parts 410, 411, 414, 415, 485, and 489

[CMS-9061-N]

Electronic Public Comment Transmission Error for Two Medicare Program Rules

AGENCY: Centers for Medicare & Medicaid Services (CMS), HHS.

ACTION: Request for resubmission of comments.

SUMMARY: This document requests that the public resubmit their comments on the CY 2010 Physician Fee Schedule or CY 2010 Hospital Outpatient Prospective Payment System/Ambulatory Surgical Center Payment System proposed rule before the close of the comment period for these rules (that is, August 31, 2009) if their comments were originally submitted via www.regulations.gov during the period from July 26, 2009 through July 30, 2009.

DATES: To be assured consideration, comments on the CY 2010 Physician Fee Schedule proposed rule published July 13, 2009 (74 FR 33520) and the CY 2010 Hospital Outpatient Prospective Payment System/Ambulatory Surgical Center Payment System proposed rule published July 20, 2009 (74 FR 35232), must be received at one of the addresses provided below, no later than 5 p.m. on August 31, 2009.

ADDRESSES: In commenting, please refer to file code—

• CMS-1413-P (for the CY 2010 Physician Fee Schedule proposed rule); or

• CMS-1414-P (for the CY 2010 Hospital Outpatient Prospective Payment System/Ambulatory Surgical Center Payment System proposed rule).

Because of staff and resource limitations, we cannot accept comments by facsimile (FAX) transmission.

You may submit comments in one of four ways (please choose only one of the ways listed):

1. Electronically. You may submit electronic comments on either of these proposed rules via http://www.regulations.gov. Enter one of the following docket identification numbers in the keyword search field:

a. CMS-2009-0058, for the CY 2010 Physician Fee Schedule proposed rule.

b. CMS-2009-0060, for the CY 2010 Hospital Outpatient Prospective Payment System Ambulatory Surgical Center Payment System proposed rule.

2. By regular mail. You may mail written comments to the following address only: Centers for Medicare & Medicaid Services, Department of Health and Human Services, Attention: CMS-1413-P or CMS-1414-P, P.O. Box 8013, Baltimore, MD 21244-8013.

Please allow sufficient time for mailed comments to be received before the close of the comment period.

3. By express or overnight mail. You may send written comments to the following address only: Centers for Medicare & Medicaid Services, Department of Health and Human Services, Attention: CMS-1413-P or CMS-1414-P, Mail Stop C4-26-05, 7500 Security Boulevard, Baltimore, MD 21244-1850.

4. By hand or courier. If you prefer, you may deliver (by hand or courier) your written comments before the close of the comment period to either of the following addresses:

a. For delivery in Washington, DC— Centers for Medicare & Medicaid Services, Department of Health and Human Services, Room 445-G, Hubert H. Humphrey Building, 200 Independence Avenue, SW., Washington, DC 20201.

(Because access to the interior of the Hubert H. Humphrey Building is not readily available to persons without Federal government identification, commenters are encouraged to leave their comments in the CMS drop slots located in the main lobby of the building. A stamp-in clock is available for persons wishing to retain a proof of filing by stamping in and retaining an extra copy of the comments being filed.)

b. For delivery in Baltimore, MD—Centers for Medicare & Medicaid Services, Department of Health and Human Services, 7500 Security Boulevard, Baltimore, MD 21244-1850.

If you intend to deliver your comments to the Baltimore address, please call telephone number (410) 786-9994 in advance to schedule your arrival with one of our staff members.

Comments mailed to the addresses indicated as appropriate for hand or courier delivery may be delayed and received after the comment period.

FOR FURTHER INFORMATION CONTACT: Shawn Braxton, (410) 786-7292.

SUPPLEMENTARY INFORMATION: In January 2003, the interagency eRulemaking Program launched www.regulations.gov to provide citizens with an online portal to learn about proposed regulations and to have their comments shape the rulemaking process. For the first time ever, American citizens could access and comment on all proposed Federal regulations from a single Web site.

A minor software problem resulted in the nontransmittal of some public comments from July 26, 2009 through July 30, 2009. The software error affected only a few Federal agencies, one of which was the Centers for Medicare & Medicaid Services. We were informed that this error affected the receipt of public comments on the following proposed rules (1) Medicare Program; Payment Policies Under the Physician Fee Schedule and Other Revisions to Part B for CY 2010 (regulations.gov docket identification (ID) number (CMS-2009-0058)); and (2) Medicare Program: Proposed Changes to the Hospital Outpatient Prospective Payment System and CY 2010 Payment Rates; Proposed Changes to the Ambulatory Surgical Center Payment System and CY 2010 Payment Rates (regulations.gov docket ID number (CMS-2009-0060)). (These proposed rules were published in the July 13, 2009 (74 FR 33520) and the July 20, 2009 (74 FR 35232) Federal Register, respectively.) Therefore, we are requesting that persons who transmitted comments on either of the aforementioned proposed rules during the period from July 26, 2009 through July 30, 2009 resubmit their comments before the close of the comment period for the proposed rules which is August 31, 2009. Persons wishing to resubmit comments may do so electronically, via mail, hand delivery, or courier as specified in the ADDRESSES section of this notice.

We note that the software problem has been corrected and safeguards are now in place to ensure this error will not occur for future rulemaking documents.

Dated: August 20, 2009.
Charlene Frizzera,
Acting Administrator, Centers for Medicare & Medicaid Services.

[FR Doc. E9-20583 Filed 8-21-09; 4:15 pm]

BILLING CODE 4120-01-P